DEPARTMENT OF DEFENSE

Department of the Air Force

[Docket ID: USAF-2012-0008]

Privacy Act of 1974; System of Records

AGENCY: U.S. Central Command (CENTCOM), DoD.

ACTION: Notice To Add a System of Records.

SUMMARY: The U.S. Central Command proposes to add a new system of records to its inventory of record systems subject to the Privacy Act of 1974 (5 U.S.C. 552a), as amended.

DATES: This proposed action will be effective on May 18, 2012. unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Evlyn Hearne, USCENTCOM CCJ6-RDF, 7115 South Boundary Blvd., MacDill AFB, FL 33621-5101 or at (813) 529-3027.

SUPPLEMENTARY INFORMATION: The U.S. Central Command notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 13, 2012 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 13, 2012.
Aaron Siegel,
Alternate OSD Federal Register Liaison Officer, Department of Defense.

FCENTCOM 04

System Name:

Total Records Information Management System (TRIM)

System Location:

Headquarters, United States Central Command (USCENTCOM), CCJ6-RD, 7115 South Boundary Boulevard, MacDill Air Force Base, FL 33621-5101.

Categories of individuals covered by the System:

Active duty military, retired military, contractors employed by USCENTCOM, Department of Defense civilians, Department of Defense retired civilians, Active and Retired military family members verified in the Defense Eligibility Enrollment Reporting System (DEERS), Individual Ready Reserve, Non-Appropriated Funds civilians, National Guard, National Guard retired personnel, Reserve personnel, Non-US citizens including military and civilian personnel, and individuals who are the subject of records in the system.

Categories of Records in the System:

The system encompasses a variety of records pertaining to all USCENTCOM and DoD functionality; individual name, Social Security Number (SSN), DoD ID Number, address, user account information that contains data such as names, usernames, unit assignments, locations, office symbols, telephone numbers, email addresses, and user roles; and also including information in the following categories:

Personnel:

Records concerning military and DoD civilian personnel as they relate to general personnel data of member, his or her dependents, such as insurance, voting, citizenship, and handling responsibility for personal property. Records concerning methods and procedures for identifying skills and abilities of military personnel, testing, and awarding military occupational specialties for use in assignment to related duties and jobs. Also covered are records on appointment of officer personnel, enlistment and re-enlistment of enlisted personnel, recruiting activities, and other matters relating to military personnel at USCENTCOM.

Security:

Records concerning identification, classification, downgrading, declassification, dissemination, and protection of defense information, storage and destruction of classified matter, industrial security, investigations involving compromise of classified information, access to classified data, and other matters pertaining to security; records covering the protection and preservation of the military, economic, and productive strength of the United States, including the security of the Government in domestic and foreign affairs and records concerning responsibilities, policies, functions, and procedures pertaining to security assistance.

Information Management:

Records concerning planning, policies, procedures, architectures, and responsibilities pertaining to information management; life cycle management of information systems; and records pertaining to all five Information Mission Area disciplines (communications, automation, records management, visual information, and publications and printing); records concerning policy, direction, planning, testing, and operation of communications and electronics systems, such as radio, telephone, teletypewriter, and radar.

Medical Services:

Composition, mission, responsibilities and functions of the USCENTCOM Medical Department and its related corps, administration and operation of USCENTCOM medical treatment facilities, medical, dental, and veterinary care, and medical, dental, and veterinary equipment and supplies. Logistics: These records concern logistics policies, procedures, and support covering supplies, equipment, and facilities in several different logistical areas.

Administration: Administrative functions, such as control of office space, visits, attendance at meetings and conferences, gifts and donations, memorialization proceedings, and other support functions not specifically provided for in other series.

Emergency and Safety:

Actions involved in preparing for war or emergencies; bringing USCENTCOM to a state of readiness; assembling and organizing personnel, supplies, and other resources for active military service. USCENTCOM participation and support in matters of civil disturbance, disaster relief, and civil defense and emergency action; records concern administration of USCENTCOM safety program, which is directed toward accident prevention USCENTCOM-wide. Program responsibilities include conducting studies and surveys to determine unsafe practices and conditions. Also covers records on nuclear accidents and incidents.

Legal Services: Judiciary boards and proceedings, decisions, opinions, and policies applicable to civil law and military affairs, international, foreign, procurement, and contract law, legal assistance for military personnel and their dependents, policies and procedures relative to patents, inventions, taxation, and land litigation involving USCENTCOM, trials by courts-martial, including pretrial, trial, and post-trial procedures, nonjudicial punishment, investigation, processing, settlement, and payment of claims against or on behalf of the Government when USCENTCOM is involved.

Financial Audit:

Policies, procedures, direction, and supervision of financial functions, including budgeting, accounting, funding, entitlement, pay, expenditures, USCENTCOM Management Structure and fiscal code, and related reporting. Records concerning authority, responsibilities, organization, and policies relating to auditing service in USCENTCOM, action requested on USCENTCOM Audit Agency reports, and audit procedures for non-appropriated and similar funds.

Quality Assurance and Quality Control: Environmental management records, including programs, policies, instructions, and activities; matters affecting the quality of the environment, such as impact on the atmosphere, natural resources, water, and the community.

Authority for Maintenance of the System:

10 U.S.C. 3013, Secretary of the Army; 10 U.S.C. 8013, Secretary of the Air Force; 10 U.S.C. 5013, Secretary of the Navy; 5 U.S.C. 301, Departmental Regulations; 44 U.S.C. 3301-3314, the Federal Records Act; E.O. 13526, Classified National Security Information Memorandum; DoDD 5015.2, DoD Records Management Program; 5760.01A, Vol I, Joint Staff and Combatant Command Records Management Manual; CENTCOM Regulation 25-50, Records Management Policy; and E.O. 9397 (SSN), as amended.

Purpose(s):

To manage and archive the long-term and permanent records providing core information technology to records management support programs.

Routine Uses of Records Maintained in the System, including categories of users and the purposes of such uses:

In addition to those disclosures generally permitted under 5 U.S.C. 552a(b) of the Privacy Act of 1974, these records contained therein may specifically be disclosed outside the DOD as a routine use pursuant to 5 U.S.C. 552a(b)(3) as follows:

The DoD `Blanket Routine Uses' apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records and electronic storage media.

Retrievability:

By individual's name, Social Security Number (SSN), subject matter, or title of record.

Safeguards:

Records are maintained in a controlled facility. Physical entry is restricted by the use of locks, guards, and is accessible only to authorized personnel. Access to records is limited to person(s) responsible for servicing the record in performance of their official duties and who are properly screened and cleared for need to know. Access to computerized data is restricted by passwords; users must have a common access card (CAC) to access the data.

Retention and Disposal:

Data stored digitally within the system is retained until access is no longer required. Backup (paper) files are maintained only for system restoration and are not used to retrieve individual records. Computer records are destroyed by erasing, deleting or overwriting. Records are destroyed by shredding, pulping, macerating or burning.

System manager(s) and address:

Headquarters, United States Central Command (USCENTCOM), CCJ6-RD, 7115 South Boundary Boulevard, MacDill AFB, FL 33621-5101.

Notification Procedure:

Individuals seeking to determine whether information about themselves is contained in this system should address written inquiries to Headquarters, United States Central Command (USCENTCOM), CCJ6-RD, 7115 South Boundary Boulevard, MacDill AFB, FL 33621-5101.

For verification purpose, written requests must include individual's full name, any details which may assist in locating records and their signature. The individual should also reasonably specify the record contents being sought.

Record Access Procedures:

Individuals seeking to determine whether information about themselves is contained in this system should address written inquiries to Headquarters, United States Central Command (USCENTCOM), CCJ6-RD, 7115 South Boundary Boulevard, MacDill AFB, FL 33621-5101.

For verification purpose, written requests must include individual's full name, any details which may assist in locating records and their signature. The individual should also reasonably specify the record contents being sought.

Contesting Record Procedures:

The USCENTCOM rules for assessing records, for contesting and appealing initial agency determinations may be obtained from Headquarters, United States Central Command (USCENTCOM), CCJ6-RD, ATTN: Freedom of Information and Privacy, 7115 South Boundary Boulevard, MacDill AFB, FL 33621-5105.

Record Source Categories:

Information is obtained from individuals and other Federal, state and local agencies.

Exemptions Claimed for the System:

During the course of records management, exempt records from other systems of records may become part of this system. To the extent that exempt records from those other systems of records are entered into this system, the USCENTCOM hereby claims the same exemptions for the records from those other systems that are entered into this system, as claimed for the original system of records which they are a part.

An exemption rule for this record system has been promulgated in accordance with the requirements of 5 U.S.C. 553(b)(1), (2), and (3); and 32 CFR part 806b. For additional information contact the system manager.

[FR Doc. 2012-6488 Filed 3-16-12; 8:45 am]

BILLING CODE 5001-06-P